DEPARTMENT OF THE INTERIOR

Bureau of Ocean Energy Management

[OMB Control Number 1010-NEW; Docket ID: BOEM-2017-0016]

Agency Information Collection Activities; Evaluating Connections: BOEM's Environmental Studies and Assessments

AGENCY: Bureau of Ocean Energy Management, Interior.

ACTION: Notice of information collection; request for comment.

SUMMARY: In accordance with the Paperwork Reduction Act of 1995, the Bureau of Ocean Energy Management (BOEM) is proposing a new information collection request (ICR).

DATES: Interested persons are invited to submit comments on or before February 28, 2022.

ADDRESSES: Submit your written comments on this ICR to the Office of Management and Budget's desk officer for the Department of the Interior at www.reginfo.gov/public/do/PRAMain within 30 days of publication of this notice. From the www.reginfo.gov/public/do/PRAMain landing page, find this information collection by selecting “Currently under Review—Open for Public Comments” or by using the search function. Please provide a copy of your comments to the BOEM Information Collection Clearance Officer, Anna Atkinson, Bureau of Ocean Energy Management, 45600 Woodland Road, Sterling, Virginia 20166; or by email to anna.atkinson@boem.gov. Please reference Office of Management and Budget (OMB) Control Number 1010-NEW in the subject line of your comments.

FOR FURTHER INFORMATION CONTACT: Anna Atkinson by email at anna.atkinson@boem.gov or by telephone at 703-787-1025.

SUPPLEMENTARY INFORMATION: In accordance with the Paperwork Reduction Act of 1995, BOEM provides the public and Federal agencies with an opportunity to comment on new, proposed, revised, and continuing collections of information. This helps BOEM assess the impact of the information collection requirements and minimize the public's reporting burden. It also helps the public understand BOEM's information collection requirements.

Title of Collection: Evaluating Connections: BOEM's Environmental Studies and Assessments.

Abstract: Section 20 of the Outer Continental Shelf Lands Act (OCSLA) (43 U.S.C. 1346) requires the Secretary of the Interior to study any area or region included in an oil, gas, or other lease sale to gather information needed for assessment and management of impacts on the human, marine, and coastal environments of the Outer Continental Shelf (OCS) and the affected coastal areas. Additionally, subsequent to the leasing and developing of any OCS area, the Secretary may authorize further environmental studies to gather information that can be used for identifying significant changes and trends in the quality and productivity of such environments and for designing experiments to identify the causes of such changes.

This statutory authority is carried out through BOEM's Environmental Studies Program (ESP). In fulfilling its mission, BOEM must comply with a range of environmental laws and regulations. To comply with relevant statutes and policies, BOEM requires current and relevant scientific information to develop informed environmental analyses required by the National Environmental Policy Act (NEPA) and to conduct appropriate and meaningful consultations with other Federal agencies. For example, the following types of documents are considered in the universe of BOEM environmental analyses:

• NEPA environmental impact statements.

• NEPA environmental assessments.

• National Historic Preservation Act documents (including section 106 evaluations of effects on historic properties and programmatic agreements).

• Essential fish habitat assessments for Magnuson-Stevens Fishery Conservation and Management Act consultations.

• Endangered Species Act section 7 biological evaluations or biological assessments.

• Analyses and assessments prepared to comply with the Clean Air Act, Coastal Zone Management Act, and Marine Mammal Protection Act.

• Analyses and assessments such as engineering analyses, regulatory impact analyses, resource evaluations, additional NEPA-related analyses, site assessments, and cost-benefit analyses prepared for OCSLA and other regulatory requirements.

Environmental studies sponsored by ESP provide scientific information to inform BOEM's environmental analyses, which are overseen through BOEM's Environmental Assessment Program (EAP). BOEM describes the process by which environmental studies inform environmental analyses and environmental analyses inform environmental studies as a “feedback loop.” To determine how well this feedback loop is functioning and to identify potential improvements in the science-to-policy process, BOEM is pursuing an evaluation of the linkages between the scientific research it is funding and the information needs within its environmental analyses. The evaluation will include surveys and interviews of BOEM's ESP and EAP partners (e.g., Federal and State agencies, academic institutions and scholars, consultants, tribal members, industry representatives, and environmental non-governmental organizations).

The survey will focus on information exchange between BOEM's ESP and EAP and their external program partners. The survey results will be used to understand how program partners use information derived from BOEM's studies and analyses and to trace the networks through which this information is disseminated. The survey results will inform a network analysis to understand the network structure, possible network influence on outcomes, and people or organizations that could be targeted or connected to achieve better expected outcomes.

The survey will be administered online. The survey will be sent to ESP and EAP partners identified by BOEM staff. Following a brief email introduction, each survey respondent will receive a unique weblink to complete the online survey. The survey questions will ask respondents: (1) From whom they receive and with whom they share BOEM environmental studies and analyses information, and (2) how they use that environmental information for their organization's work. The survey will include fewer than 20 mostly discrete-choice questions and will take up to 20 minutes to complete. Descriptive statistics will be calculated at the organizational level, and results will be presented in a tabular format and network graphs.

All agencies, organizations, and institutions that BOEM identifies as important for understanding the feedback loop will be contacted for an interview. Interviews will be semi-structured. Respondents will be asked questions tailored to their type of organization. Interviewers will ask respondents to provide insight into how and why linkages between BOEM and respondents are (or are not) present, and how and why respondents are (or are not) using environmental studies and analyses information from BOEM. As a semi-structured interview, the interviewer will have the opportunity to ask follow-up questions based on initial responses. The interviewers will ask about the respondents' roles or positions within their organizations, how they use BOEM's environmental studies and analyses information in their organizations' work, and how their organizations contribute to BOEM's environmental studies and analyses. Additionally, the interviewers will request recommendations on ways to strengthen linkages moving forward. The responses will be analyzed using qualitative coding analysis.

This information is not otherwise available and will help inform BOEM's efforts to improve the feedback loop and to ultimately better inform its decisions.

OMB Control Number: 1010-NEW.

Type of Review: New.

Respondents/Affected Public: BOEM ESP and EAP partners.

Total Estimated Number of Annual Responses: 70 interviews; up to 300 online surveys.

Survey questions will be discrete-choice/closed-ended; interview guide will be semi-structured/open-ended.

Estimated Completion Time per Response: 60 minutes per interview; up to 20 minutes per survey.

Total Estimated Number of Annual Burden Hours: 70 hours for interviews; up to 100 hours for surveys.

Respondent's Obligation: Voluntary.

Frequency of Collection: One time.

Total Estimated Annual Non-Hour Burden Cost: There is no non-hour cost burden associated with this collection.

A Federal Register notice with a 60-day public comment period on this proposed ICR was published on April 28, 2021 (86 FR 22451). BOEM did not receive any comments during the 60-day comment period.

BOEM is again soliciting comments on this proposed ICR. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to OMB for approval of this ICR. You should be aware that your entire comment—including your address, phone number, email address, or other personally identifying information—may be publicly disclosed. In order to inform BOEM's decision whether it can withhold from disclosure your personally identifiable information, you must identify any information contained in your comments that, if released, would clearly constitute an unwarranted invasion of your privacy. Also, you must briefly describe possible harmful consequences of disclosing that information, such as embarrassment, injury, or other harm. While you can ask BOEM in your comment to withhold your personally identifiable information from public disclosure, BOEM cannot guarantee that it will be able to do so.

BOEM protects proprietary information in accordance with the Freedom of Information Act (5 U.S.C. 552), and the Department of the Interior's implementing regulations (43 CFR part 2).

A Federal agency may not conduct or sponsor, and a person is not required to respond to, a collection of information unless it displays a currently valid OMB control number.

The authority for this action is the Paperwork Reduction Act of 1995 (44 U.S.C. 3501 et seq.).

Peter Meffert,
Acting Chief, Office of Regulations.

[FR Doc. 2022-01722 Filed 1-27-22; 8:45 am]

BILLING CODE 4310-MR-P